DEPARTMENT OF ENERGY

Federal Energy Regulatory Commission

Combined Notice of Filings #1

Take notice that the Commission received the following electric rate filings:

Docket Numbers: ER10-2074-003, ER10-2097-005.

Applicants: Kansas City Power & Light Company, KCP&L Greater Missouri Operations Company.

Description: Amendment to September 21, 2012 Notice of Change in Status of Kansas City Power & Light Company, et al.

Filed Date: 2/4/13.

Accession Number: 20130204-5161.

Comments Due: 5 p.m. ET 3/14/13.

Docket Numbers: ER10-2074-003, ER10-2097-005.

Applicants: Kansas City Power & Light Company, KCP&L Greater Missouri Operations Company.

Description: Kansas City Power & Light Company, et al. submits Amendment to February 4, 2013 Amendment to September 21, 2012 Notice of Change in Status of Kansas City Power & Light Company, et al.

Filed Date: 2/5/13.

Accession Number: 20130205-5103.

Comments Due: 5 p.m. ET 3/14/13.

Docket Numbers: ER13-879-000.

Applicants: Josco Energy Corp.

Description: Josco Energy Corp. submits supplement to February 4, 2013 Application for Market Based Authority.

Filed Date: 2/20/13.

Accession Number: 20130220-5113.

Comments Due: 5 p.m. ET 3/6/13.

Docket Numbers: ER13-962-000.

Applicants: Wisconsin Power and Light Company.

Description: WPL's Changes in Depreciation Rates for Wholesale Production Service to be effective 1/1/2013.

Filed Date: 2/21/13.

Accession Number: 20130221-5035.

Comments Due: 5 p.m. ET 3/14/13.

Docket Numbers: ER13-963-000.

Applicants: ECP Energy I, LLC.

Description: Normal filing to be effective 4/22/2013.

Filed Date: 2/21/13.

Accession Number: 20130221-5036.

Comments Due: 5 p.m. ET 3/14/13.

Docket Numbers: ER13-964-000.

Applicants: EquiPower Resources Management, LLC.

Description: Normal filing to be effective 4/22/2013.

Filed Date: 2/21/13.

Accession Number: 20130221-5037.

Comments Due: 5 p.m. ET 3/14/13.

Docket Numbers: ER13-965-000.

Applicants: PJM Interconnection, L.L.C.

Description: PJM Interconnection, L.L.C. submits tariff filing per 35.13(a)(2)(iii: Original Service Agreement No. 3488; Queue No. Y1-012 to be effective 1/23/2013.

Filed Date: 2/21/13.

Accession Number: 20130221-5052.

Comments Due: 5 p.m. ET 3/14/13.

Take notice that the Commission received the following qualifying facility filings:

Docket Numbers: QF12-267-000.

Applicants: Holyoke Solar, LLC.

Description: Holyoke Solar, LLC submit Refund Report.

Filed Date: 2/20/13.

Accession Number: 20130220-5172.

Comments Due: 5 p.m. ET 3/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2013.
Nathaniel J. Davis, Sr.,
Deputy Secretary.

[FR Doc. 2013-04745 Filed 2-28-13; 8:45 am]

BILLING CODE 6717-01-P